COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products and services to the Procurement List that will be furnished by nonprofit agencies employing persons who are blind or have other severe disabilities, and deletes services from the Procurement List previously furnished by such agencies.

DATES: Effective on September 11, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 6/17/2016 (81 FR 39630) and 7/8/2016 (81 FR 44597), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN(s)—Product Name(s): MR 753—Pillow, Jumbo

Mandatory for: Military commissaries and exchanges in accordance with the Code of Federal Regulations, Chapter 51, 51-6.4.

Mandatory Source(s) of Supply: Georgia Industries for the Blind, Bainbridge, GA

Contracting Activity: Defense Commissary Agency

Distribution: C-List

NSN(s)—Product Name(s)

7930-00-NIB-0578—Disinfectant 256 Cleaner, Neutral, Concentrated, High Dilution

7930-00-NIB-0579—Disinfectant PD-128 Cleaner, Intermediate, Broad Spectrum, Concentrated

8125-00-NIB-0031—Spray Bottle, High Dilution 256 Neutral Disinfectant, 32 oz. Bottle

8125-00-NIB-0032—Spray Bottle, PD-128 Disinfectant Cleaner, 32 oz. Bottle

Mandatory for: Department of Veterans Affairs

Mandatory Source of Supply: VisionCorps, Lancaster, PA

Contracting Activity: Department of Veterans Affairs, Strategic Acquisition Center, Fredericksburg, VA

Distribution: C-List

Services

Service Type: Janitorial Service

Mandatory for: USDA APHIS, Luis Munoz Marin Airport, Terminal A & D, 150 Central Sector, Carolina, PR

Mandatory Source(s) of Supply: The Corporate Source, Inc., New York, NY

Contracting Activity: Dept of Agriculture, USDA APHIS MRPBS, Animal and Plant Health Inspection Service, Minneapolis, MN

Service Type: Mailroom Operation Service

Mandatory for: US Air Force, Postal Service Center, Tyndall Air Force Base, Tyndall Air Force, FL

Mandatory Source(s) of Supply: VersAbility, Resources, Inc., Hampton, VA

Contracting Activity: Dept of the Air Force, FA4890 ACC AMIC, Newport News, VA

Deletions

On 7/8/2016 (81 FR 44597), the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the services to the Government.

3. There are no known regulatory alternatives which would accomplish the objectives of the Javits-Wagner-O'Day Act (41 U.S.C. 8501-8506) in connection with the services deleted from the Procurement List.

End of Certification

Accordingly, the following services are deleted from the Procurement List:

Services

Service Type: Order Processing Service

Mandatory for: McGuire Air Force Base, McGuire AFB, NJ

Mandatory Source(s) of Supply: Bestwork Industries for the Blind, Inc., Cherry Hill, NJ

Contracting Activity: Dept of the Air Force, FA7014 AFDW PK

Service Type: Operation of Postal Service Center Service

Mandatory for: Luke Air Force Base, Glendale, AZ

Mandatory Source(s) of Supply: Arizona Industries for the Blind, Phoenix, AZ

Contracting Activity: Dept of the Air Force, FA7014 AFDW PK

Service Type: Telephone Switchboard Operations Service

Mandatory for: Barksdale Air Force Base, Shreveport, LA

Mandatory Source(s) of Supply: Louisiana Association for the Blind, Shreveport, LA

Contracting Activity: Dept of the Air Force, FA7014 AFDW PK

Service Type: Embroidery of USAF Service Name Tapes & Emboss of Plastic Name Tags Base

Mandatory for: Lackland Air Force Base, San Antonio, TX

Mandatory Source(s) of Supply: Delaware Division for the Visually Impaired, New Castle, DE

Contracting Activity: Dept of the Air Force, FA7014 AFDW PK

Barry S. Lineback,
Director, Business Operations.

[FR Doc. 2016-19236 Filed 8-11-16; 8:45 am]

BILLING CODE 6353-01-P